DEPARTMENT OF HOMELAND SECURITY

Coast Guard

33 CFR Part 117

[CGD01-04-139]

Drawbridge Operation Regulations: Fort Point Channel, MA

AGENCY: Coast Guard, DHS.

ACTION: Notice of temporary deviation from regulations.

SUMMARY: The Commander, First Coast Guard District, has issued a temporary deviation from the drawbridge operation regulations for the Northern Avenue Bridge, mile 0.1, across Fort Point Channel, at Boston, Massachusetts. This temporary deviation allows the bridge to remain in the closed position from December 1, 2004, through December 31, 2004. This temporary deviation is necessary to facilitate mechanical repairs at the bridge.

DATES: This deviation is effective from December 1, 2004, through December 31, 2004.

FOR FURTHER INFORMATION CONTACT: John McDonald, Project Officer, First Coast Guard District, at (617) 223-8364.

SUPPLEMENTARY INFORMATION: The Northern Avenue Bridge has a vertical clearance of 7 feet at mean high water and 17 feet at mean low water in the closed position. The existing regulations are listed at 33 CFR 117.599.

The bridge owner, the City of Boston, requested a temporary deviation from the drawbridge operating regulations to facilitate necessary mechanical repairs, the replacement of the bridge operating gears, at the bridge. The bridge cannot open during the prosecution of these mechanical repairs.

Under this temporary deviation the bridge may remain in the closed position from December 1, 2004, through December 31, 2004.

This deviation from the operating regulations is authorized under 33 CFR 117.35 and will be performed with all due speed in order to return the bridge to normal operation as soon as possible.

Dated: October 26, 2004.
David P. Pekoske,
Rear Admiral, U.S. Coast Guard, Commander, First Coast Guard District.

[FR Doc. 04-24970 Filed 11-8-04; 8:45 am]

BILLING CODE 4910-15-P